ENVIRONMENTAL PROTECTION AGENCY

[FRL-6972-8]

Agency Information Collection Activities: Submission for OMB Review; Comment Request; NSPS New Source Performance Standards (NSPS) for Municipal Incinerators

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS Subpart E: New Source Performance Standards (NSPS) for Incinerators. OMB Control Number 2060-0040, expiration date April 30, 2001. The ICR describes the nature of the information collection and its expected burden and cost; where appropriate, it includes the actual data collection instrument.

DATES: Comments must be submitted on or before June 1, 2001.

ADDRESSES: Send comments, referencing EPA ICR No. 1058.07 and OMB Control No. 2060-0040, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1058.07 For technical questions about the ICR contact Ann Kline (202-564-0119).

SUPPLEMENTARY INFORMATION: Title: NSPS Subpart E: New Source Performance Standards for Incinerators, OMB Control No. 2060-0040; EPA ICR No. 1058.07, expiring April 30, 2001. This is a request for extension of a currently approved collection.

Abstract: The New Source Performance Standards (NSPS) for Incinerators were promulgated on December 23, 1971. These standards apply to incinerators that charge more than 45 megagrams per day (50 tons per day) of solid waste for the purpose of reducing the volume of the waste after promulgation of NSPS subpart E in 1971. Solid waste is defined as refuse that is more than 50 percent municipal type waste. This information is being collected to assure compliance with 40 CFR part 60, subpart E.

Owners or operators of the affected facilities described must make one-time-only notifications including: (1) Notification of any physical or operational change to an existing facility which may increase the regulated pollutant emission rate; (2) notification of the initial performance test, including information necessary to determine the conditions of the performance test; and (3) performance test measurements and results. Owners or operators are also required to maintain records of the occurrence and duration of any startup, shutdown, or malfunction in the operation of an affected facility, or any period during which the monitoring system is inoperative. Monitoring requirements specific to NSPS Subpart E provide information on daily charging rates and hours of operation. Any owner or operator subject to the provisions of this part shall maintain a file of these measurements, and retain the file for at least two years following the date of such measurements, maintenance reports, and records

The control of emissions of particulate matter from municipal incinerators requires not only the installation of properly designed equipment, but also the operation and maintenance of that equipment. Certain records and reports are necessary to enable the Administrator to: (1) Identify existing, new, and reconstructed sources subject to the standards; (2) determine a source's initial capability to comply with the emission standard; and (3) ensure that the standards are being achieved. These records and reports are required under subpart E and the General Provisions of 40 CFR part 60. Owners or operators of affected facilities must provide certain notifications and reports on startup and initial performance. Owners or operators of affected facilities also must record certain operation and maintenance and retain files of this information for at least two years following the date of such measurements, maintenance reports, and records.

An agency may not conduct or sponsor, and a person is not required to respond to, a collection of information unless a currently valid OMB control number is displayed. The OMB control numbers for EPA's regulations are listed in 40 CFR part 9 and 48 CFR chapter 15. The Federal Register document required under 5 CFR 1320.8(d), soliciting comments on this collection of information was published on August 17, 2000 (65 FR 50196); no comments were received.

Burden Statement: The annual public reporting and recordkeeping burden for this collection of information is estimated to average 89 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators of Municipal Incinerators.

Estimated Number of Respondents: 96.

Frequency of Response: Daily, Monthly, and Semi-annually.

Estimated Total Annual Hour Burden: 8,544 hours.

Estimated Total Annualized Capital, O&M Cost Burden: $240,000.

Send comments on the Agency's need for this information, the accuracy of the provided burden estimates, and any suggested methods for minimizing respondent burden, including through the use of automated collection techniques to the addresses listed above. Please refer to EPA ICR No. 1058.07 and OMB Control No. 2060-0040 in any correspondence.

Dated: April 24, 2001.
Oscar Morales,
Director, Collection Strategies Division.

[FR Doc. 01-10997 Filed 5-1-01; 8:45 am]

BILLING CODE 6560-50-P